NATIONAL LABOR RELATIONS BOARD

Information Quality Guidelines

AGENCY: National Labor Relations Board.

ACTION: Final Guidelines.

SUMMARY: The National Labor Relations Board (NLRB or the Board) announces that its final Information Quality Guidelines have been posted on the NLRB Web site. Information Quality Guidelines for the Agency's Office of Inspector General are included as Appendix A to those Guidelines.

DATES: These Guidelines are effective October 1, 2002.

ADDRESSES: Submit any comments related to the NLRB's Information Quality Guidelines to the Executive Secretary, National Labor Relations Board, 1099 14th Street, NW., Washington, DC 20570. Comments may be submitted by e-mail to: Dataquality@NLRB.gov or by facsimile to (202) 273-4270.

FOR FURTHER INFORMATION CONTACT: Lester A. Heltzer, Acting Executive Secretary, National Labor Relations Board, 1099 14th Street, NW., Washington, DC 20570; telephone (202) 273-1936; facsimile (202) 273-4270; e-mail to Lester.Heltzer@NLRB.gov.

SUPPLEMENTARY INFORMATION: Section 515 of the Treasury and General Government Appropriations Act for FY 2001 (Public Law No. 106-554) requires each Federal agency to publish Guidelines for ensuring and maximizing the quality, objectivity, utility, and integrity of the information it disseminates to the public. Agency Guidelines must conform to government-wide guidelines issued by the Office of Management and Budget (OMB). In compliance with this statutory requirement and OMB instructions, the NLRB has posted its Information Quality Guidelines on the NLRB Web site (www.NLRB.gov) in the “Public Notices” area. The Guidelines describe the Agency's procedures for ensuring the quality of information that it disseminates to the public and the procedures by which an affected person may obtain correction of information disseminated by the NLRB that does not comply with the Guidelines. Persons who cannot access the Guidelines through the Internet may request a paper or electronic copy by contacting the Division of Information at (202) 273-1991.

Dated: September 27, 2002.
Lester A. Heltzer,
Acting Executive Secretary.

[FR Doc. 02-25050 Filed 10-1-02; 8:45 am]

BILLING CODE 7545-01-M